MERIT SYSTEMS PROTECTION BOARD

Agency Information Collection Activities; Proposed Collection

AGENCY: Merit Systems Protection Board.

ACTION: Notice.

SUMMARY: In compliance with the Paperwork Reduction Act (PRA, 44 U.S.C. 3501) the U.S. Merit Systems Protection Board (MSPB) has forwarded an information collection request (ICR) to the Office of Management and Budget (OMB) for review and approval. This is a new information collection activity. This ICR describes the nature of the information collection and its estimated burden and cost.

DATES: On June 4, 2008 (Federal Register, Volume 73, Number 108, pages 31890-31891), MSPB sought public comments on this ICR pursuant to 5 CFR 1320.8(d). MSPB received no comments. MSPB is submitting an ICR to OMB for review and approval according to the procedure prescribed in 5 CFR 1320.12. Additional comments on this ICR should be submitted on or before October 3, 2008 to Brenda Aguilar at baguilar@omb.eop.gov, or fax at (202)-395-6974.

ADDRESSES: You may also submit comments to Dr. Dee Ann Batten by mail: Office of Policy and Evaluation, U.S. Merit Systems Protection Board, 1615 M Street, NW., Washington, DC 20419 or by e-mail: deeann.batten@mspb.gov (please put “Employee Survey” in the subject line of the message).

FOR FURTHER INFORMATION CONTACT: Dr. Dee Ann Batten by phone at (202) 653-6772, ext. 1411, or by e-mail to deeann.batten@mspb.gov (please put “Employee Survey” in the subject line of the message).

SUPPLEMENTARY INFORMATION: Proposed Project: MSPB Survey on Federal Telework. The MSPB is asking for approval to collect information to support its study on Federal Telework. Federal employees will be asked to complete a survey(s) about their experiences with and perceptions of Telework and other related topics about their organizations and careers. This study is being conducted under MSPB's statutory authority to “conduct, from time to time, special studies relating to the civil service and to other merit systems in the executive branch, and report to the President and to the Congress as to whether the public interest in a civil service free of prohibited personnel practices is being adequately protected.” (Section 1204 Title 5 U.S.C.) In addition, the Code of Federal Regulations also describes the role of MSPB's Office of Policy and Evaluation as responsible for carrying out “the Board's statutory responsibility to conduct special reviews and studies of the civil service and other merit systems in the Executive Branch, as well as oversight reviews of the significant actions of the Office of Personnel Management.”

Burden Statement

Per respondent/participant: The reporting burden for the collection of information on this request is estimated to vary from 15 minutes to 30 minutes, with an average of 20 minutes for each participant, including time for reviewing instructions and completing and reviewing the collection of information.

Respondents/participants/affected entities: Participants will be selected via stratified random sampling to facilitate representative samples of employees (including supervisory employees).

Estimated number of respondents: We plan to survey up to 24,000 Federal employees.

Frequency of response per participant: One response per participant.

Estimated total annual hour burden: We estimate the response rate to be 60 percent (14,400 total responses) resulting in an annual reporting burden of 4800 hours (.33 hours × 14,400).

Dated: August 28, 2008.
Timothy Korb,
Acting Clerk of the Board.

[FR Doc. E8-20409 Filed 9-2-08; 8:45 am]

BILLING CODE 7400-01-P